DEPARTMENT OF AGRICULTURE

Animal and Plant Health Inspection Service

[Docket No. APHIS-2022-0027]

Antimicrobial Resistance and One Health; Virtual Public Meeting

AGENCY: Animal and Plant Health Inspection Service, USDA.

ACTION: Notice of public meeting.

SUMMARY: The U.S. Department of Agriculture will be holding a public meeting to share what the Department has learned in furthering scientific knowledge on antimicrobial resistance (AMR) in the last decade with a look to the future. The meeting will be open to the public via Zoom and teleconference. A preregistered public comment session will be held during the meeting. Written comments, specifically highlighting what has been learned and challenges for furthering science on AMR across the One Health interfaces of food safety, animal and human health, and the environment are welcome.

DATES: The virtual public meeting will be held via Zoom and teleconference, on August 30, 2022, from 10:00 a.m. to 4:30 p.m. Eastern Time. The public may submit written comments until September 13, 2022.

ADDRESSES: This will be a virtual meeting. For more information about registration, providing comments, and accessibility for the meeting, see the SUPPLEMENTARY INFORMATION section of this notice.

FOR FURTHER INFORMATION CONTACT: Dr. Chelsey Shivley, Veterinary Medical Officer, Antimicrobial Resistance Coordinator, VS, APHIS, Strategy & Policy, 2150 Centre Avenue Bldg. B, Fort Collins, CO 80526; (970) 593-8132; email: usdaamrpublicmeeting@usda.gov.

SUPPLEMENTARY INFORMATION: The U.S. Department of Agriculture (USDA) Antimicrobial Resistance (AMR) Action Plan ¹ was developed after a 2012 workshop. The Action Plan informed USDA's commitments in the first National Action Plan for Combating Antibiotic Resistant Bacteria.² Over the last decade, the USDA has learned more about AMR and discovered challenges for furthering antimicrobial stewardship and agricultural science on AMR across the One Health interfaces of food safety, animal and human health, and the environment.

¹ https://www.usda.gov/sites/default/files/documents/usda-antimicrobial-resistance-action-plan.pdf.

² https://www.cdc.gov/drugresistance/pdf/national_action_plan_for_combating_antibotic-resistant_bacteria.pdf.

The USDA will be holding a public meeting to share with the public what has been learned and the challenges for furthering antimicrobial stewardship and agricultural science on AMR across the One Health interfaces of food safety, animal and human health, and the environment, including crops and wildlife. The Department is interested in feedback from the public as to what has been learned in the past decade and future planned activities in AMR and One Health. The meeting will be open to the public via Zoom and teleconference. A preregistered public comment session will also be held during the meeting.

Registration: This meeting is open to the public via Zoom and by telephone. For Zoom and teleconference details, you must register at https://www.zoomgov.com/webinar/register/WN_LFLkbcWuTdqGT0wxBZyuOQ. Registration by August 23, 2022, is required for members of the public who wish to speak during the public comment period. We will ask that comments be limited to 5 minutes. Members of the public will be heard in the order in which they pre-registered.

Public comment: Written comments by attendees or other interested stakeholders will be welcomed for the public record before and up to 2 weeks following the virtual meeting or by close of business Tuesday, September 13, 2022. All written comments must be sent to usdaamrpublicmeeting@usda.gov. Please refer to Docket No. APHIS-2022-0027 when submitting your comments.

Accessibility: If you require special accommodations, such as a sign language interpreter, please contact usdaamrpublicmeeting@usda.gov.

Done in Washington, DC, this 24th day of May 2022.
Anthony Shea,
Administrator, Animal and Plant Health Inspection Service.

[FR Doc. 2022-11462 Filed 5-26-22; 8:45 am]

BILLING CODE 3410-34-P